DEPARTMENT OF COMMERCE

National Oceanic and Atmospheric Administration

[RTID 0648-XD463]

North Pacific Fishery Management Council; Public Meeting

AGENCY: National Marine Fisheries Service (NMFS), National Oceanic and Atmospheric Administration (NOAA), Commerce.

ACTION: Notice of hybrid meeting.

SUMMARY: The North Pacific Fishery Management Council (Council) Social Science Planning Team (SSPT) will meet in Anchorage, AK. See SUPPLEMENTARY INFORMATION.

DATES: The meeting will be held on Friday, November 3, 2023, from 8:30 a.m. to 4:30 p.m., Alaska Time.

ADDRESSES:

Meeting address: The meeting will be a hybrid meeting. The in-person component of the meeting will be held at the North Pacific Fishery Management Council office, 1007 W 3rd Ave., Suite 400, Anchorage, AK 99501.

If you are attending virtually, join the meeting online through the link at at https://meetings.npfmc.org/Meeting/Details/3017.

Council address: North Pacific Fishery Management Council, 1007 W 3rd Ave., Suite 400, Anchorage, AK 99501-2252; telephone: (907) 271-2809. Instructions for attending the meeting via video conference are given under SUPPLEMENTARY INFORMATION, below.

FOR FURTHER INFORMATION CONTACT: Sarah Marrinan, Council staff; phone: (907) 271-2809; email: sarah.marrinan@noaa.gov. For technical support, please contact our admin Council staff, email: npfmc.admin@noaa.gov.

SUPPLEMENTARY INFORMATION:

Agenda

Friday, November 3, 2023

The SSPT agenda will meet to discuss research priorities, and other business. The agenda is subject to change, and the latest version will be posted https://meetings.npfmc.org/Meeting/Details/3017 prior to the meeting, along with meeting materials.

Connection Information

You can attend the meeting online using a computer, tablet, or smart phone, or by phone only. Connection information will be posted online at: https://meetings.npfmc.org/Meeting/Details/3017.

Public Comment

Public comment letters will be accepted and should be submitted electronically to https://meetings.npfmc.org/Meeting/Details/3017.

Authority: 16 U.S.C. 1801 et seq.

Dated: October 16, 2023.
Rey Israel Marquez,
Acting Deputy Director, Office of Sustainable Fisheries, National Marine Fisheries Service.

[FR Doc. 2023-23149 Filed 10-19-23; 8:45 am]

BILLING CODE 3510-22-P